DEPARTMENT OF ENERGY

Federal Energy Regulatory Commission

[Docket No. RP01-535-000]

Williams Gas Pipelines Central, Inc.; Notice of Proposed Changes in FERC Gas Tariff

September 6, 2001.

Take notice that on August 30, 2001, Williams Gas Pipelines Central, Inc. (Williams) tendered for filing as part of its FERC Gas Tariff, Original Volume No.1, the revised tariff sheets to become effective October 1, 2001:

Eighteenth Revised Sheet No. 6A

The revised tariff sheets are being filed pursuant to Section 26 of the General Terms and Conditions of Williams' Gas Tariff, Original Volume No. 1, which affords Williams the right to recover the costs billed to Williams by the FERC via the FERC ACA Unit Charge method. That unit charge, as determined by the Commission, is $.0021/Dth as set forth on Williams' Annual Charges Bill for fiscal year 2001, to be effective October 1, 2001.

Williams states that the copies of this filing are being mailed to its customers, state commissions and other interested parties.

Any person desiring to be heard or to protest said filing should file a motion to intervene or a protest with the Federal Energy Regulatory Commission, 888 First Street, NE., Washington, DC 20426, in accordance with sections 385.214 or 385.211 of the Commission's Rules and Regulations. All such motions or protests must be filed on or before September 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22875 Filed 9-11-01; 8:45 am]

BILLING CODE 6717-01-P